SECURITIES AND EXCHANGE COMMISSION

[Release No. 34-102037; File No. SR-Phlx-2024-54]

Self-Regulatory Organizations; Nasdaq PHLX LLC; Notice of Withdrawal of Proposed Rule Change To Amend Options 3, Section 13 Related to XND

December 26, 2024.

On October 18, 2024, Nasdaq PHLX LLC (“Phlx”) filed with the Securities and Exchange Commission (“Commission”), pursuant to Section 19(b)(1) of the Securities Exchange Act of 1934 ¹ and Rule 19b-4 thereunder,² a proposed rule change to permit orders for the accounts of appointed market makers to be solicited for PIXL auctions in Nasdaq-100 Micro Index (“XND”) Options. The proposed rule change was published for comment in the Federal Register on November 6, 2024.³ On December 16, 2024, pursuant to Section 19(b)(2) of the Act,⁴ the Commission designated a longer period within which to approve the proposed rule change, disapprove the proposed rule change, or institute proceedings to determine whether to disapprove the proposed rule change.⁵ The Commission has received no comments on the proposed rule change.

¹ 15 U.S.C. 78s(b)(1).

² 17 CFR 240.19b-4.

³ See Securities Exchange Act Release No. 101488 (Oct. 31, 2024), 89 FR 88092.

⁴ 15 U.S.C. 78s(b)(2).

⁵ See Securities Exchange Act Release No. 101919, 89 FR 104253 (December 20, 2024).

On December 20, 2024, Phlx withdrew the proposed rule change (SR-Phlx-2024-54).

For the Commission, by the Division of Trading and Markets, pursuant to delegated authority.⁶
⁶ 17 CFR 200.30-3(a)(12).
Vanessa A. Countryman,
Secretary.

[FR Doc. 2024-31457 Filed 12-31-24; 8:45 am]

BILLING CODE 8011-01-P